NUCLEAR REGULATORY COMMISSION

[IA-05-054; ASLBP No. 06-847-03-EA]

In the Matter of Steven P. Moffitt; Establishment of Atomic Safety and Licensing Board

Pursuant to delegation by the Commission dated December 29, 1972, published in the Federal Register, 37 FR 28,710 (1972), and the Commission's regulations, see 10 CFR 2.104, 2.202, 2.300, 2.303, 2.309, 2.311, 2.318, and 2.321, notice is hereby given that an Atomic Safety and Licensing Board is being established to preside over the following proceeding:

Steven P. Moffitt (Enforcement Action)

This proceeding concerns a request for a hearing submitted on February 23, 2006, by Steven P. Moffitt in response to a January 4, 2006 NRC staff “Order Prohibiting Involvement in NRC-License Activities,” 71 FR 2581 (January 17, 2006). Under the terms of that immediately effective staff order, the staff concluded that because Mr. Moffitt (1) had knowledge of the degraded condition of the reactor pressure vessel (RPV) head at the Davis-Besse Nuclear Power Station and the limitations experienced during RPV head inspections; and (2) had deliberately provided materially incomplete and inaccurate information in connection with the continued operation of the Davis-Besse facility for a period prior to a February 2002 refueling outage that resulted in a significant adverse condition going uncorrected, Mr. Moffitt was, among other things, prohibited for five years from engaging in NRC-licensed activities.

The Board is comprised of the following administrative judges:

Michael C. Farrar, Chair, U.S. Nuclear Regulatory Commission, Washington, DC 20555-0001.

E. Roy Hawkens, U.S. Nuclear Regulatory Commission, Washington, DC 20555-0001.

Nicholas G. Trikouros, U.S. Nuclear Regulatory Commission, Washington, DC 20555-0001.

All correspondence, documents, and other materials shall be filed with the administrative judges in accordance with 10 CFR 2.202.

Issued at Rockville, Maryland, this 16th day of March 2006.
G. Paul Bollwerk, III,
Chief Administrative Judge, Atomic Safety and Licensing Board Panel.

[FR Doc. E6-4276 Filed 3-23-06; 8:45 am]

BILLING CODE 7590-01-P